ENVIRONMENTAL PROTECTION AGENCY

[EPA-HQ-OECA-2013-0302; FRL-10007-35-OMS]

Information Collection Request Submitted to OMB for Review and Approval; Comment Request; NSPS for the Graphic Arts Industry (Renewal)

AGENCY: Environmental Protection Agency (EPA).

ACTION: Notice.

SUMMARY: The Environmental Protection Agency (EPA) has submitted an information collection request (ICR), NSPS for the Graphic Arts Industry (EPA ICR Number 0657.13, OMB Control Number 2060-0105), to the Office of Management and Budget (OMB) for review and approval in accordance with the Paperwork Reduction Act. This is a proposed extension of the ICR, which is currently approved through May 31, 2020. Public comments were previously requested via the Federal Register on May 6, 2019 during a 60-day comment period. This notice allows for an additional 30 days for public comments. A fuller description of the ICR is given below, including its estimated burden and cost to the public. An agency may neither conduct nor sponsor, and a person is not required to respond to a collection of information, unless it displays a currently valid OMB control number.

DATES: Additional comments may be submitted on or before April 29, 2020.

ADDRESSES: Submit your comments, referencing Docket ID Number EPA-HQ-OECA-2013-0302, to: (1) EPA online using www.regulations.gov (our preferred method), by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The New Source Performance Standards (NSPS) for (40 CFR part 60, subpart QQ) for the Graphic Arts Industry were proposed on October 28, 1980; promulgated on November 8, 1982; and most-recently amended on April 9, 2004. These regulations apply to each publication rotogravure printing press (not including proof presses) commencing construction, modification or reconstruction after the date of proposal. Owners and operators of graphic arts facilities operating publication rotogravure printing presses are required to comply with monitoring, reporting, and record keeping requirements for the general provisions of 40 CFR part 60, subpart A, as well as for the applicable specific standards for publication rotogravure printing presses at 40 CFR part 60, subpart QQ. The requirements under Subpart A include submitting initial notifications, performance tests and periodic reports and results, and maintaining records of the occurrence and duration of any startup, shutdown, or malfunction in the operation of an affected facility, or any period during which the monitoring system is inoperative. The information collection activities required under Subpart QQ include testing, monitoring and reporting requirements, submitting one-time and periodic reports, and maintaining records of the occurrence and duration of any startup, shutdown, or malfunction in the operation of an affected facility, or any period during which the monitoring system is inoperative. These reports are used by EPA to determine compliance with these standards.

Form Numbers: None.

Respondents/affected entities: Owners or operators of graphic arts facilities.

Respondent's obligation to respond: Mandatory (40 CFR part 60, subpart QQ).

Estimated number of respondents: 22 (total).

Frequency of response: Initially, occasionally, and semiannually.

Total estimated burden: 2,060 hours (per year). Burden is defined at 5 CFR 1320.3(b).

Total estimated cost: $238,000 (per year), which includes $0 in annualized capital/startup and/or operation & maintenance costs.

Changes in the estimates: There is an increase in burden from the most-recently approved ICR as currently identified in the OMB Inventory of Approved Burdens. The increase in burden from the most recently approved ICR is due to an increase in the number of respondents subject to the rule from 21 in the previous ICR to 22 in this ICR, which in turn increased labor hours. One revision was made to the calculation of respondent burden. The labor burden for facilities to familiarize with regulation requirements was revised from 1 hour per source per year to 3 hours per source per year. This change was made in response to industry comments that facilities may require outside technical consultation and require more than 1 hour to familiarize and re-familiarize with the rule. No other changes were made to the burden estimates as the regulations have not changed over the past three years and are not anticipated to change over the next three years.

Courtney Kerwin,
Director, Regulatory Support Division.

[FR Doc. 2020-06574 Filed 3-27-20; 8:45 am]

BILLING CODE 6560-50-P